NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (#66)

Date/Time: November 5, 2015: 8:00 a.m. to 6:30 p.m. November 6, 2015: 8:00 a.m. to 1:00 p.m.

Place: National Science Foundation, 4201 Wilson Boulevard, Suite 375, Arlington, Virginia 22230

Type of Meeting: Open.

Contact Person: Eduardo Misawa, National Science Foundation, 4201 Wilson Boulevard, Suite 505, Arlington, Virginia 22203; Telephone: 703/292-8300

Purpose of Meeting: To provide advice, recommendations and counsel on major goals and policies pertaining to mathematical and physical sciences programs and activities.

Agenda

Thursday, November 5th, 2015 8:00 a.m.-6:30 p.m.

8:00—Registration and refreshments

8:30—Meeting opening

9:00—Science Hors d'oeuvres

9:30—MPS updates

10:00—Break

10:15—Updates on NSF initiative: INCLUDES Inclusion across the Nation of Communities of Learners that have been Underrepresented for Diversity in Engineering and Science

11:00—Graduate Student Training

12:00—Lunch

12:45—Updates on NSF initiative: INFEWS Innovations at the Nexus of Food, Energy, and Water Systems

1:15—Update on Partnerships

1:45—Update on Public Access

2:15—Division of Materials Research Committee of Visitors (COV) Report

3:00—Break

3:15—Robust and reliable science

4:00—National Strategic Computing Initiative (NSCI) briefing

4:45—Cross-Directorate Advisory Committees updates

5:45—Preparation for meeting with NSF Director

6:30—Break for the day

Friday, November 6th, 2015 8:00 a.m.-1:00 p.m.

8:00—Registration and refreshments

8:30—Meeting opening

9:00—Meeting with NSF Director

10:00—Break

10:15—Broader Impacts

11:15—Discussions

1:00—Meeting Adjourn

Dated: October 20, 2015.
Crystal Robinson,
Committee Management Officer.

[FR Doc. 2015-27057 Filed 10-23-15; 8:45 am]

BILLING CODE 7555-01-P